DEPARTMENT OF THE TREASURY

Submission for OMB Review; Comment Request

October 3, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 7, 2005, to be assured of consideration.

Internal Revenue Service (IRS)

OMB Number: 1545-0071.

Type of Review: Extension.

Title: Multiple Support Declaration.

Form: IRS form 2120.

Description: A taxpayer who pays more than 10%, but less than 50% of the support for an individual may claim that individual as a dependent provided the taxpayer attaches declarations from anyone else providing at least 10% support stating that they will not claim the dependent. This form is used to show that the other contributors have agreed not to claim the individual as a dependent.

Respondents: Individuals or households.

Estimated Total Burden Hours: 6,160 hours.

OMB Number: 1545-0108.

Type of Review: Extension.

Title: Annual Summary and Transmittal of U.S. Information Returns.

Form: IRS form 1096.

Description: Form 1096 is used to transmit information returns (Forms 1099, 1098, 5498 and W-2G) to the IRS Service Centers. Under IRC section 6041 and related sections, a separate Form 1096 is used for each type of return sent to the service center by the payer. It is used by IRS to summarize and categorize the transmitted forms.

Respondents: Business or other for profit, Not-for-profit institutions. Individuals or households, Not-for-profit institutions, Farms, Federal Government, and State, Local or Tribal Government.

Estimated Total Burden Hours: 1,016,812 hours.

OMB Number: 1545-0127.

Type of Review: Extension.

Title: U.S. Income Tax Return for Homeowners Associations.

Form: IRS form 1120-H.

Description: Homeowners associations file Form 1120-H to report income, deductions and credits. The form is also used to report the income tax liability of the homeowners association. The IRS uses Form 1120-H to determine if the income, deductions, and credits have been correctly computed. This form is also used for statistical purposes.

Respondents: Business or other for-profit, and Individuals or households.

Estimated Total Burden Hours: 3,638,877 hours.

OMB Number: 1545-0257.

Type of Review: Extension.

Title: Forms 8109 and 8109-B, Federal Tax Deposit Coupon, and Form 8109-C, FTD Address Change.

Form: IRS form 8109, 8109-B and 8109-C.

Description: Federal Tax Deposit Coupons are used to deposit certain types of taxes at authorized depositaries. Coupons are sent to the IRS Centers for crediting to taxpayers' accounts. Data is used by the IRS to make the credit and to verify tax deposits claimed on the returns. The FTD Address change is used to change the address on the FTD coupons. All taxpayers required to make deposits are affected.

Respondents: Not-for-profit institutions, State, Local or Tribal Government, Business or other for-profit, Farms, and Federal Government.

Estimated Total Burden Hours: 1,841,607 hours.

OMB Number: 1545-1002.

Type of Review: Extension.

Title: Return by a Shareholder of a Passive Foreign Investment Company or Qualified Electing Fund.

Form: IRS form 8621.

Description: Form 8621 is filed by a U.S. shareholder who owns stock in a foreign investment company. The form is used to report income, make an election to extend the time of payment of tax, and to pay an additional tax and interest amount. The IRS uses Form 8621 to determine if these shareholders correctly reported amounts of income, made the election correctly, and have correctly computed the additional tax and interest amount.

Respondents: Individuals or households, and Business or other for-profits.

Estimated Total Burden Hours: 63,020 hours.

OMB Number: 1545-1027.

Type of Review: Extension.

Title: U.S. Property and Casualty Insurance Company Income Tax Return.

Form: IRS form 1120-PC.

Description: Property and casualty insurance companies are required to file an annual return of income and pay the tax due. The data is used to insure that companies have correctly reported income and paid the correct tax.

Respondents: Business or other for-profit.

Estimated Total Burden Hours: 467,192 hours.

OMB Number: 1545-1029.

Type of Review: Extension.

Title: Low Income Housing Credit Disposition Bond or Treasury Direct Account Application.

Form: IRS form 8693.

Description: Form 8693 is needed per IRC section 42(j)(6) to post bond or establish a Treasury Direct Account and waive the recapture requirement under section 42(j) for certain dispositions of a building on which the low-income housing credit was claimed. Internal Revenue regulations section 301.7101-1 requires that the posting of a bond must be done on the appropriate form as determined by the Internal Revenue Service.

Respondents: Business or other for-profit, and Individuals or households.

Estimated Total Burden Hours: 1,690 hours.

OMB Number: 1545-1275.

Type of Review: Extension.

Title: Limitations on Corporate Net Operating Loss Carryforwards (CO-45-91 Final).

Description: Section 1.382-9(d)(2)(iii) and (d)(4)(iv) allow a loss corporation to rely on a statement by beneficial owners of indebtedness in determining whether the loss corporation qualifies under section 382(1)(5). Section 19(d)(6)(ii) requires a loss corporation to file an election if it wants to apply the regulations retroactively, or revoke a prior section 382(1)(6) election.

Respondents: Business or other for-profit.

Estimated Total Burden Hours: 200 hours.

OMB Number: 1545-1487.

Type of Review: Extension.

Title: REG-209827-96 and REG 111672-99 (Final) Treatment of Distributions to Foreign Persons Under Sections 367(e)(1) and 367(e)(2).

Description: Section 367(e)(1) and 367(e)(2) provide for gain recognition on certain transfers to foreign persons under section 355 and 332. Section 6038B(a) requires U.S. persons transferring property to foreign person in exchange described in section 332 and 355 to furnish information regarding such transfers.

Respondents: Business or other for-profits.

Estimated Total Burden Hours: 2,471 hours.

OMB Number: 1545-1519.

Type of Review: Extension.

Title: Long Term Care and Accelerated Death Benefits.

Form: IRS form 1099-LTC.

Description: Under the terms of IRC sections 7702B and 101g, qualified long-term care and accelerated death benefits paid to chronically ill individuals are treated as amounts received for expenses incurred for medical care. Amounts received on a per diem basis in excess of $175 per day are taxable. Section 6050Q requires all such amounts to be reported.

Respondents: Individuals or households, Business or other for-profits and State, Local or Tribal Government.

Estimated Total Burden Hours: 18,181 hours.

OMB Number: 1545-1657.

Type of Review: Extension.

Title: Revenue Procedures 99-32—Conforming Adjustments Subsequent to Section 482 Allocation.

Description: This revenue procedure prescribes the applicable procedures for the repatriation of cash by a United States taxpayer via an interest bearing account receivable or payable in an amount corresponding to the amount allocated under section 482 from, or to a related person with respect to a controlled transaction.

Respondents: Business or other for-profits.

Estimated Total Burden Hours: 1,620 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. 05-20191 Filed 10-6-05; 8:45 am]

BILLING CODE 4830-01-P